DEPARTMENT OF COMMERCE

International Trade Administration

[A-469-817]

Ripe Olives From Spain: Postponement of Preliminary Determination in the Less-Than-Fair-Value Investigation

AGENCY: Enforcement and Compliance, International Trade Administration, Department of Commerce.

DATES: Applicable November 16, 2017.

FOR FURTHER INFORMATION CONTACT: Catherine Cartsos at (202) 482-1757, AD/CVD Operations, Office I, Enforcement and Compliance, International Trade Administration, U.S. Department of Commerce, 1401 Constitution Avenue NW., Washington, DC 20230.

SUPPLEMENTARY INFORMATION:

Background

On July 12, 2017, the Department of Commerce (the Department) initiated a less-than-fair-value (LTFV) investigation of imports of ripe olives from Spain.¹ Currently, the preliminary determination is due no later than November 29, 2017.

¹ See Ripe Olives from Spain: Initiation of Investigation, 82 FR 33054 (July 19, 2017) (Initiation Notice).

Postponement of Preliminary Determination

Section 733(b)(1)(A) of the Tariff Act of 1930, as amended (the Act), requires the Department to issue the preliminary determination in a LTFV investigation within 140 days after the date on which the Department initiated the investigation. However, section 733(c)(1)(A)(b)(1) of the Act permits the Department to postpone the preliminary determination until no later than 190 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² The petitioner is the Coalition for Fair Trade in Ripe Olives.

On October 11, 2017, the petitioner submitted a timely request that the Department postpone the preliminary determination in the LTFV investigation.³ The petitioner stated that it requests postponement because the respondents selected for individual examination are still filing their response to the Department's questionnaire and the Department needs additional time to fully analyze the questionnaire responses, request any necessary clarifications, and determine antidumping margins.⁴

³ See Letter from the petitioner titled “Ripe Olives from Spain Request for Postponement of Preliminary Determination,” dated October 11, 2017.

⁴ Id.

For the reasons stated above and because there are no compelling reasons to deny the request, the Department, in accordance with section 733(c)(1)(A) of the Act, is postponing the deadline for the preliminary determination by 50 days (i.e., 190 days after the date on which this investigation was initiated). As a result, the Department will issue its preliminary determination no later than January 18, 2018. In accordance with section 735(a)(1) of the Act and 19 CFR 351.210(b)(1), the deadline for the final determination of this investigation will continue to be 75 days after the date of publication of the preliminary determination, unless postponed at a later date.

This notice is issued and published pursuant to section 733(c)(2) of the Act and 19 CFR 351.205(f)(1).

Dated: November 9, 2017.
Gary Taverman,
Deputy Assistant Secretary for Antidumping and Countervailing Duty Operations, performing the non-exclusive functions and duties of the Assistant Secretary for Enforcement and Compliance.

[FR Doc. 2017-24848 Filed 11-15-17; 8:45 am]

BILLING CODE 3510-DS-P